NATIONAL SCIENCE FOUNDATION

Proposal Review Panel for Emerging Frontiers and Multidisciplinary Activities; Committee Renewal

AGENCY: National Science Foundation.

ACTION: Committee Management Renewal.

SUMMARY: The National Science Foundation (NSF) is renewing the committee for Emerging Frontiers and Multidisciplinary Activities.

DATES: NSF approves the continuation of this committee on 2/12/2026. Effective date for renewal is February 27, 2026. For more information, please contact Crystal Robinson, NSF, at (703) 292-8687.

FOR FURTHER INFORMATION CONTACT: Crystal Robinson, Committee Management Officer, NSF, at (703) 292-8687, or by mail to National Science Foundation, Randolph Building, 401 Dulany Street, Alexandria, VA 22314.

SUPPLEMENTARY INFORMATION: The NSF management officials having responsibility for the advisory committee listed below have determined that renewing this committee for another two years is necessary and in the public interest in connection with the performance of duties imposed upon the Director, National Science Foundation (NSF), by 42 U.S.C. 1861 et seq. This determination follows consultation with the Committee Management Secretariat, General Services Administration.

Committee

Proposal Review Panel for Emerging Frontiers and Multidisciplinary Activities, #34558.

Pursuant to 41 U.S.C. 102-3.60(a), to establish, renew, reestablish, or merge a discretionary (agency discretion) advisory committee, an agency must first consult with the General Services Administration's Committee Management Secretariat (the Secretariat) and, as part of the consultation, provide a written public interest determination approved by the head of the agency to the Secretariat with a copy to the Office of Management and Budget. In addition, pursuant to 41 U.S.C. 102-3.35, an agency shall follow the same consultation process and document in writing the same determination of need before creating a subcommittee under a discretionary committee that is not made up entirely of members of a parent advisory committee. Information on the following factors for the committee is provided to the Secretariat to demonstrate that renewing the committee is in the public interest:

1. Annual budget: $117,500.

a. Federal personnel on a full-time equivalent (FTE) basis: 1.5 FTE.

b. Other Federal internal costs: $2,000.

c. Proposed payments to members: $108,000.

d. Proposed number of members: 270.

e. Reimbursable costs: $7,500.

2. If applicable, the total dollar value of grants expected to be recommended during the fiscal year: $50,000,000.

3. Criteria for selecting members to ensure the committee has the necessary.

Committee members are selected based on their scientific and technical expertise, professional experience, and ability to provide informed, objective advice on proposals within the scope of EFMA activities. Membership is drawn from a broad range of disciplines to ensure representation of the scientific areas encompassed by the committee's review portfolio. Membership consists of approximately 270 members considering all meetings. The subject matter and volume of proposals to be reviewed determine the number of members participating in any given meeting. Every effort is made to ensure balanced membership, including representation across scientific disciplines, institutions, and geographic regions. Members are selected to provide complementary perspectives and the depth of technical expertise necessary to conduct thorough and credible proposal reviews. The majority of committee members are anticipated to be comprised of Special Government Employees (SGEs) with a small percentage of Regular Government Employees (RGEs) when subject matter expertise requires.

4. List of all other Federal advisory committees of the agency:

84684 Advisory Committee for Technology, Innovation and Partnerships

1172 Alan T. Waterman Award Committee

13883 Astronomy and Astrophysics Advisory Committee

1173 Committee on Equal Opportunities in Science and Engineering

1186 Proposal Review Panel for Astronomical Sciences

10751 Proposal Review Panel for Atmospheric and Geospace Sciences

10747 Proposal Review Panel for Behavioral and Cognitive Sciences

10743 Proposal Review Panel for Biological Infrastructure

1189 Proposal Review Panel for Chemical, Bioengineering, Environmental, and Transport Systems

1191 Proposal Review Panel for Chemistry

1194 Proposal Review Panel for Civil, Mechanical, and Manufacturing Innovation

1207 Proposal Review Panel for Computer and Network Systems

1192 Proposal Review Panel for Computing & Communication Foundations

1185 Proposal Review Panel for Cyberinfrastructure

1569 Proposal Review Panel for Earth Sciences

1196 Proposal Review Panel for Electrical, Communications, and Cyber Systems

44011 Proposal Review Panel for Emerging Frontiers in Biological Sciences

173 Proposal Review Panel for Engineering Education and Centers

10744 Proposal Review Panel for Environmental Biology

1756 Proposal Review Panel for Geosciences

57 Proposal Review Panel for Graduate Education

1200 Proposal Review Panel for Information and Intelligent Systems

84685 Proposal Review Panel for Innovation and Technology Ecosystems

2469 Proposal Review Panel for Integrative Activities

10745 Proposal Review Panel for Integrative Organismal Systems

10749 Proposal Review Panel for International Science and Engineering

1203 Proposal Review Panel for Materials Research

1204 Proposal Review Panel for Mathematical Sciences

10746 Proposal Review Panel for Molecular and Cellular Biosciences

10752 Proposal Review Panel for Ocean Sciences

1208 Proposal Review Panel for Physics

1209 Proposal Review Panel for Polar Programs

59 Proposal Review Panel for Research on Learning in Formal and Informal Settings

10748 Proposal Review Panel for Social and Economic Sciences

1766 Proposal Review Panel for Social, Behavioral and Economic Sciences

84683 Proposal Review Panel for Translational Impacts

1214 Proposal Review Panel for Undergraduate Education

5. Justification that the information or advice provided by the Federal advisory committee or subcommittee is not available from another Federal advisory committee, another Federal Government source, or any other more cost-effective and less burdensome source.

Proposal peer review is central to NSF processes. Specific advisory committees (i.e., review panels) are impaneled for individual programs to directly provide the technical expertise relevant to the proposals under review. This therefore requires distinct membership for committees responsible for review of distinct subject areas. Notably, the EFMA Office supports multidisciplinary and interdisciplinary activities that encompass a wide range of engineering and scientific areas necessitating the recruitment of committee members with unique combinations of technical expertise.

6. If the consultation is a committee renewal, a summary of the previous accomplishments of the committee and the reasons it needs to continue.

Past committees have been instrumental in identifying cutting edge topics and projects that pursue bold, innovative research that addresses national needs, strengthens U.S. leadership and fosters advances in new areas of fundamental or applied research, catalyzes development of new industries or capabilities that increase the leadership position for the country, and/or makes significant progress towards addressing a national need or grand challenge, particularly in current priority areas including, but not limited to, artificial intelligence, bioengineering, quantum engineering, robotics, and nuclear engineering. An example of a groundbreaking area identified by the committee is Quantum research in 2016 before it became a priority topic at NSF and subsequently a national initiative: the National Quantum Initiative.

7. Explanation of why the committee/subcommittee is essential to the conduct of agency business.

The ENG FACA committees are essential to the conduct of agency business as they align with the agency's usage of the merit review process and criteria in keeping with 42 U.S. Code § 1862s, which outlines that “the Foundation's intellectual merit and broader impacts criteria are appropriate for evaluating grant proposals” and directs the Foundation to “maintain the intellectual merit and broader impacts criteria, among other specific criteria as appropriate, as the basis for evaluating grant proposals in the merit review process.”

NSF's mission, as described in the 1950 NSF act, is “to promote the progress of science, advance national health, prosperity, and welfare, and secure the national defense. This is achieved by investing in research to expand knowledge in science, engineering, and education, and by increasing the capacity of the U.S. to conduct and benefit from such research. Merit review panels under these FACA committees serve as the basis for the gold standard merit review to support the most compelling research to advance the NSF mission.

This public interest determination documents that renewing the committee is essential to the conduct of agency business and that the information to be obtained is not already available through another advisory committee or source within the Federal Government.

Dated: February 13, 2026.
Crystal Robinson,
Committee Management Officer, National Science Foundation.

[FR Doc. 2026-03164 Filed 2-17-26; 8:45 am]

BILLING CODE 7555-01-P